NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on October 10-12, 2002, in Conference Room T-2B3, 11545 Rockville Pike, Rockville, Maryland. The date of this meeting was previously published in the Federal Register on Monday, November 26, 2001 (66 FR 59034).

Thursday, October 10, 2002

8:30 a.m.-8:35 a.m.: Opening Statement by the ACRS Chairman—The ACRS Chairman will make opening remarks regarding the conduct of the meeting.

8:35 a.m.-10 a.m.: Confirmatory Research Program on High-Burnup Fuel (Open)—The Committee will hear presentations by and hold discussions with representatives of the NRC Staff and the Electric Power Research Institute (EPRI) regarding the confirmatory research program on high-burnup fuel and the EPRI topical report on reactivity insertion accidents.

10:15 a.m.-12:15 p.m.: Overview of European Simplified Boiling Water Reactor (ESBWR), SWR 1000 (Boiling Water Reactor), Advanced CANDU Reactor (ACR 700) Pre-Application Review (Open)—The Committee will hear presentations by and hold discussions with representatives of the NRC Staff and industry on the ESBWR (General Electric 1380 MWe), SWR 1000 (Framatome ANP-Siemens 1000 Mwe) and ACR 700 (Advanced CANDU Reactor 700 Mwe) advanced reactor designs.

1:15 p.m.-2:45 p.m.: Catawba and McGuire License Renewal Application (Open)—The Committee will hear presentations by and hold discussions with representatives of the NRC staff and Duke Energy Company regarding the license renewal application and draft Safety Evaluation Report for the Catawba Nuclear Station Units 1 and 2 and McGuire Nuclear Station Units 1 and 2.

2:45 p.m.-4 p.m.: Policy Issues Related to Advanced Reactor Licensing (Open)—The Committee will hear presentations by and hold discussions with representatives of the NRC staff regarding changes to policy issues related to the licensing of advanced reactors resulting from the resolution of ACRS comments and recommendations included in its June 17, 2002 report.

4:15 p.m.-7 p.m.: Proposed ACRS Reports (Open)—The Committee will discuss proposed ACRS reports on matters considered during this meeting.

Friday, October 11, 2002

8:30 a.m.-8:35 a.m.: Opening Remarks by the ACRS Chairman (Open)—The ACRS Chairman will make opening remarks regarding the conduct of the meeting.

8:35 a.m.-10 a.m.: Program Plan for Low-Power Shutdown (LPSD) Standardized Plant Analysis Risk (SPAR) Model Development and Cancellation of Revision 4i of SPAR Models (Open)—The Committee will hear presentations by and hold discussions with representatives of the NRC staff regarding the program plan for LPSD SPAR Model Development, the reasons for canceling plans for the development of revision 4i of the SPAR Models, and insights from the onsite review of the LPSD SPAR model for Surry Nuclear Plant Units 1 and 2.

10:15 a.m.-11:30 a.m.: Guidance for Performance-Based Regulation (Open)—The Committee will hear presentations by and hold discussions with representatives of the NRC staff regarding the draft NUREG/BR “Guidance for Performance-Based Regulation.”

11:30 a.m.-11:45 a.m.: Reconciliation of ACRS Comments and Recommendations (Open)—The Committee will discuss the responses from the NRC Executive Director for Operations (EDO) to comments and recommendations included in recent ACRS reports and letters. The EDO responses are expected to be made available to the Committee prior to the meeting.

1:15 p.m.-2:15 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

2:15 p.m.-3:15 p.m.: Report Regarding Recent Operating Events (Open)—Report by the cognizant ACRS member regarding recent operating events of interest.

3:15 p.m.-7 p.m.: Proposed ACRS Reports (Open/Closed)—The Committee will discuss proposed ACRS reports.

Saturday, October 12, 2002

8:30 a.m.-1 p.m.: Proposed ACRS Reports (Open)—The Committee will discuss proposed ACRS reports.

1 p.m.-1:30 p.m.: Miscellaneous (Open)—The Committee will discuss matters related to the conduct of Committee activities and matters and specific issues that were not completed during previous meetings, as time and availability of information permit. The Committee will also discuss its plans for preparing a “white paper” on the use of PRA in the regulatory decisionmaking process.

Procedures for the conduct of and participation in ACRS meetings were published in the Federal Register on October 3, 2001 (66 FR 50462). In accordance with those procedures, oral or written views may be presented by members of the public, including representatives of the nuclear industry. Electronic recordings will be permitted only during the open portions of the meeting. Persons desiring to make oral statements should notify the Associate Director for Technical Support named below five days before the meeting, if possible, so that appropriate arrangements can be made to allow necessary time during the meeting for such statements. Use of still, motion picture, and television cameras during the meeting may be limited to selected portions of the meeting as determined by the Chairman. Information regarding the time to be set aside for this purpose may be obtained by contacting the Associate Director prior to the meeting. In view of the possibility that the schedule for ACRS meetings may be adjusted by the Chairman as necessary to facilitate the conduct of the meeting, persons planning to attend should check with the Associate Director if such rescheduling would result in major inconvenience.

Further information regarding topics to be discussed, whether the meeting has been canceled or rescheduled, the Chairman's ruling on requests for the opportunity to present oral statements, and the time allotted therefor can be obtained by contacting Dr. Sher Bahadur, Associate Director for Technical Support (301-415-0138), between 7:30 a.m. and 4:15 p.m., EDT.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., EDT, at least 10 days before the meeting to ensure the availability of this service. Individuals or organizations requesting this service will be responsible for telephone line charges and for providing the equipment and facilities that they use to establish the videoteleconferencing link. The availability of videoteleconferencing services is not guaranteed.

Dated: September 20, 2002.
Annette Vietti-Cook,
Secretary of the Commission.

[FR Doc. 02-24437 Filed 9-25-02; 8:45 am]

BILLING CODE 7590-01-P